DEPARTMENT OF TRANSPORTATION

Federal Aviation Administration

14 CFR Part 39

[Docket No. 2000-NM-253-AD; Amendment 39-12119; AD 2001-04-01]

RIN 2120-AA64

Airworthiness Directives; BAe Systems (Operations) Limited Model BAe 146 and Model Avro 146-RJ Series Airplanes

AGENCY: Federal Aviation Administration, DOT.

ACTION: Final rule.

SUMMARY: This amendment adopts a new airworthiness directive (AD), applicable to all BAe Systems (Operations) Limited Model BAe 146 and Model Avro 146-RJ series airplanes, that requires repetitive non-destructive testing inspections to detect cracking at the fuselage end of the inner sidestays of the main landing gear (MLG) by the anti-rotation pin, and replacement of the sidestay with a new sidestay, if necessary. This amendment is necessary to detect and correct fatigue cracking of the inner sidestays of the MLG, which could result in failure of the MLG. This action is intended to address the identified unsafe condition.

DATES: Effective March 28, 2001.

The incorporation by reference of certain publications listed in the regulations is approved by the Director of the Federal Register as of March 28, 2001.

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all British Aerospace Model BAe 146 and Model Avro 146-RJ series airplanes was published in the Federal Register on October 30, 2000 (65 FR 64632). That action proposed to require repetitive non-destructive testing inspections to detect cracking at the fuselage end of the inner sidestays of the main landing gear by the anti-rotation pin, and replacement of the sidestay with a new sidestay, if necessary.

Manufacturer Name Change

Since the issuance of the proposed AD, the manufacturer has notified the FAA that it has changed its name from British Aerospace to BAe Systems (Operations) Limited. The final rule has been changed to reflect the recent company name change.

Conclusion

After careful review of the available data, including the comment noted above, the FAA has determined that air safety and the public interest require the adoption of the rule with the change described previously. The FAA has determined that this change will neither increase the economic burden on any operator nor increase the scope of the AD.

Cost Impact

The FAA estimates that 60 Model BAe 146 and Model Avro 146-RJ series airplanes, of U.S. registry will be affected by this AD. It will take approximately 1 work hour per airplane to accomplish the required inspection, at an average labor rate of $60 per work hour. Based on these figures, the cost impact of the AD on U.S. operators is estimated to be $3,600, or $60 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-04-01 BAe Systems (Operations) Limited (Formerly British Aerospace Regional Aircraft): Amendment 39-12119. Docket 2000-NM-253-AD.

Applicability: All Model BAe 146-100A, -200A, and -300A series airplanes, and all Model Avro 146-RJ70A, 146-RJ85A, and 146-RJ100A series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To detect and correct fatigue cracking of the inner sidestays of the main landing gear (MLG), which could result in failure of the MLG, accomplish the following:

Inspection

(a) Prior to the accumulation of 8,000 total flight cycles on the MLG sidestays, or within 500 flight cycles after the effective date of this AD, whichever occurs later: Perform a non-destructive testing (NDT) inspection to detect cracking at the fuselage end of the inner sidestays of the MLG by the anti-rotation pin, in accordance with Messier-Dowty Service Bulletin 146-32-148, including Appendix A, dated April 17, 2000. Repeat the inspection thereafter at intervals not to exceed 4,000 flight cycles.

Replacement

(b) If any cracking is found during any inspection required by paragraph (a) of this AD, prior to further flight, replace the sidestay with a new sidestay in accordance with BAE Systems Service Bulletin SB.32-157, dated June 2, 2000.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Messier-Dowty Service Bulletin 146-32-148, including Appendix A, dated April 17, 2000; and BAE Systems Service Bulletin SB.32-157, dated June 2, 2000; as applicable. This incorporation by reference was approved by the Director of the Federal Register in accordance with 5 U.S.C. 552(a) and 1 CFR part 51. Copies may be obtained from British Aerospace Regional Aircraft American Support, 13850 Mclearen Road, Herndon, Virginia 20171. Copies may be inspected at the FAA, Transport Airplane Directorate, 1601 Lind Avenue, SW., Renton, Washington; or at the Office of the Federal Register, 800 North Capitol Street, NW., suite 700, Washington, DC.

Note 3: The subject of this AD is addressed in British airworthiness directive 001-06-2000.

Effective Date

(f) This amendment becomes effective on March 28, 2001.

Issued in Renton, Washington, on February 9, 2001.
Vi L. Lipski,
Manager, Transport Airplane Directorate, Aircraft Certification Service.

[FR Doc. 01-3850 Filed 2-20-01; 8:45 am]

BILLING CODE 4910-13-P